MERIT SYSTEMS PROTECTION BOARD

5 CFR Part 1201

Practices and Procedures

AGENCY: Merit Systems Protection Board.

ACTION: Final rule.

SUMMARY: The Merit Systems Protection Board (MSPB or the Board) is amending its rules of practice and procedure in this part to reflect the relocation of its Northeastern Regional Office. On January 22, 2008, the Board relocates its Northeastern Regional Office from the U.S. Customhouse, Room 501, Second and Chestnut Streets, Philadelphia, PA 19106-2987, to 1601 Market Street, Suite 1700, Philadelphia, PA 19103. Appendix II of this part is amended to show the new address. The Northeastern Office telephone numbers remain unchanged.

DATES: Effective Date: January 22, 2008.

FOR FURTHER INFORMATION CONTACT: William D. Spencer, Clerk of the Board, (202) 653-7200. The Board is publishing this rule as a final rule pursuant to 5 U.S.C. 1204(h).

List of Subjects in 5 CFR Part 1201

Administrative practice and procedure, Civil rights, Government employees.

Accordingly, the Board amends 5 CFR part 1201 as follows:

PART 1201—PRACTICES AND PROCEDURES

1. The authority citation for part 1201 continues to read as follows:

Authority: 5 U.S.C. 1204 and 7701, unless otherwise noted.

Appendix II to Part 1201 [Amended]

2. Amend Appendix II to 5 CFR part 1201 in item 3. by removing “U.S. Customhouse, Room 501, Second and Chestnut Streets, Philadelphia, PA 19106-2987,” and adding, in its place “1601 Market Street, Suite 1700, Philadelphia, PA 19103,”.

William Spencer,
Clerk of the Board.

[FR Doc. E8-447 Filed 1-11-08; 8:45 am]

BILLING CODE 7400-01-P